DEPARTMENT OF ENERGY

Federal Energy Regulatory Commission

[Docket No. EG05-48-000, et al.]

Invenergy Cannon Falls LLC, et al.; Electric Rate and Corporate Filings

March 4, 2005.

The following filings have been made with the Commission. The filings are listed in ascending order within each docket classification.

1. Invenergy Cannon Falls LLC

[Docket No. EG05-48-000]

Take notice that on February 25, 2005, Invenergy Cannon Falls LLC (Invenergy CF) filed with the Federal Energy Regulatory Commission an application for determination of exempt wholesale generator status pursuant to part 365 of the Commission's regulations.

Invenergy CF states it is a Delaware limited liability company that will construct, own and operate an approximately 357 MW electric generation facility located in Cannon Falls, Minnesota. Invenergy CF further states it will sell power exclusively at wholesale.

Comment Date: 5 p.m. eastern time on March 18, 2005.

2. Judith Gap Energy LLC

[Docket No. EG05-49-000]

Take notice that on February 25, 2005, Judith Gap Energy LLC (Judith Gap) filed with the Federal Energy Regulatory Commission an application for determination of exempt wholesale generator status pursuant to part 365 of the Commission's regulations.

Judith Gap states it is a Montana limited liability company that will construct, own and operate an approximately up to 188 MW electric generation facility located in Wheatland County, Montana. Judith Gap further states it will sell power exclusively at wholesale.

Comment Date: 5 p.m. eastern time on March 18, 2005.

3. Spring Canyon Energy LLC

[Docket No. EG05-50-000]

Take notice that on February 25, 2005, Spring Canyon Energy LLC (Spring Canyon) filed with the Federal Energy Regulatory Commission an application for determination of exempt wholesale generator status pursuant to part 365 of the Commission's regulations.

Spring Canyon states it is a Delaware limited liability company that will construct, own and operate an approximately up to 188 MW electric generation facility located in Logan, County, Colorado. Spring Canyon further states it will sell power exclusively at wholesale.

Comment Date: 5 p.m. eastern time on March 18, 2005.

4. The Detroit Edison Company

[Docket Nos. EL01-51-007, ER01-1649-007]

Take notice that on March 1, 2005, The Detroit Edison Company (Detroit Edison) filed an amendment to First Revised Replacement Sheet No. 22 of Detroit Edison's Distribution Interconnection Agreement with Dearborn Industrial Generation, LLC.

Comment Date: 5 p.m. eastern time on March 22, 2005.

5. Grant Energy, Inc.

[Docket No. ER05-557-001]

Take notice that on February 28, 2005, Grant Energy, Inc. (Grant) amended its petition to the Commission filed February 4, 2005 in Docket No. ER05-557-000 for acceptance of Grant Rate Schedule FERC No. 1; the granting of certain blanket approvals, including the authority to sell electricity at market-based rates; and the waiver of certain Commission regulations.

Comment Date: 5 p.m. eastern time on March 14, 2005.

6. Southwest Power Pool, Inc.

[Docket No. ER05-651-000]

Take notice that on February 28, 2005, Southwest Power Pool, Inc. (SPP) submitted for filing an unexecuted large generator interconnection agreement between SPP, FPL Energy Cowboy Wind, LLC (FPL Energy), and Public Service Company of Oklahoma (PSO). SPP seeks an effective date of March 1, 2005.

SPP states that both FPL Energy and PSO were served with a copy of this filing.

Comment Date: 5 p.m. eastern time March 21, 2005.

7. Southwest Power Pool, Inc.

[Docket No. ER05-652-000]

Take notice that on February 28, 2005, Southwest Power Pool, Inc. (SPP) submitted a filing to revise its Open Access Transmission Tariff to implement a regional transmission cost allocation proposal with regard to new transmission upgrades. SPP states that it also submitted its filing to comply with the Commission's February 10, 2004 order in Docket No. RT04-1-000. SPP seeks an effective date of May 5, 2005 for the cost allocation proposal.

SPP states it has served a copy of this filing on all parties to this proceeding, as well as upon each of its members and customers. SPP further states that a complete copy of this filing will be posted on the SPP Web site http://www.spp.org, and is also being served on all affected state commissions.

Comment Date: 5 p.m. eastern time on March 21, 2005.

8. Southwest Reserve Sharing Group

[Docket No. ER05-653-000]

Take notice that on February 28, 2005, Tucson Electric Power Company tendered for filing, on behalf of the members of the Southwest Reserve Sharing Group, an amendment to the Southwest Reserve Sharing Group Participation Agreement expanding membership to include New Harquahala Generating Company.

Comment Date: 5 p.m. eastern time on March 21, 2005.

9. Phoenix Energy Trading, LLC

[Docket No. ER05-654-000]

Take notice that on February 28, 2005, Phoenix Energy Trading, LLC. (PHOENIX) petitioned the Commission for acceptance of PHOENIX Rate Schedule FERC No. 1; the granting of certain blanket approvals, including the authority to sell electricity at market-based rates; and the waiver of certain Commission regulations.

PHOENIX states that it intends to engage in wholesale electric power and energy purchases and sales as a marketer. PHOENIX further states it is not in the business of generating or transmitting electric power.

Comment Date: 5 p.m. eastern time on March 21, 2005.

10. Midwest Independent Transmission System Operator, Inc.

[Docket No. ER05-656-000]

Take notice that, on February 28, 2005, the Midwest Independent Transmission System Operator, Inc. (Midwest ISO) submitted an agreement for compensation of generator-supplied services by and among White Pine Electric Power, LLC (Generator), American Transmission Company, LLC (Transmission Owner) and the Midwest ISO.

The Midwest ISO states it has served copies of this filing on the parties to this agreement. In addition, the Midwest ISO states it has electronically served a copy of this filing upon all Midwest ISO members, member representatives of transmission owners and non-transmission owners, the Midwest ISO Advisory Committee participants, as well as all state commissions within the region. In addition, Midwest ISO states that the filing has been electronically posted on the Midwest ISO's Web site at http://www.midwestiso.org under the heading “Filings to FERC.”

Comment Date: 5 p.m. eastern time March 21, 2005.

11. Ocean State Power I, Ocean State Power II

[Docket No. ER05-657-000]

Take notice that on February 28, 2005, Ocean State Power I and Ocean State Power II (collectively, Ocean State) tendered for filing revised tariff sheets to Rate Schedule FERC Nos. 1-8 to update Ocean State's rate of return on equity (ROE). Ocean State also tendered for filing changes to Rate Schedule FERC Nos. 1 and 5 reflecting a substitution of purchaser. Ocean State requested an effective date of April 29, 2005 for the ROE changes and December 21, 2004 for the substitution of purchaser.

Ocean State indicates that copies of the filing have been served on Ocean State's power purchasers, the Commonwealth of Massachusetts Department of Telecommunications and Energy and the Rhode Island Public Utilities Commission.

Comment Date: 5 p.m. eastern time on March 21, 2005.

12. Birchwood Power Partners, L.P.

[Docket Nos. QF93-126-004, EL05-69-000]

Take notice that on February 28, 2005, Birchwood Power Partners, L.P. (Birchwood) submitted a request for declaratory order and a petition for limited waiver of the operating standard for its cogeneration facility located in King George County, Virginia for the calendar year 2001 pursuant to section 292.205(c) of the Commission's regulations.

Comment Date: 5 p.m. eastern time on March 21, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-1095 Filed 3-14-05; 8:45 am]

BILLING CODE 6717-01-P